DEPARTMENT OF THE INTERIOR

Bureau of Indian Affairs

Notice of Availability of the Supplemental Draft Environmental Impact Statement for the Proposed Moapa Paiute Energy Center and Associated Facilities, Located on the Moapa River Indian Reservation and on Bureau of Land Management Lands in Clark County, NV

AGENCY: Bureau of Indian Affairs, Interior.

ACTION: Notice.

SUMMARY: This notice advises the public that the Bureau of Indian Affairs (BIA) intends to file a Supplemental Draft Environmental Impact Statement (SDEIS) for the proposed Moapa Paiute Energy Center with the Environmental Protection Agency. It was prepared by the Bureau of Indian Affairs (BIA) and the Bureau of Land Management (BLM), with the cooperation of the Moapa Band of Paiute Indians (Tribe) and the Calpine Corporation (Calpine). The Notice of Availability for the Draft Environmental Impact Statement (DEIS) was published on Friday, March 20, 2001, in the Federal Register (66 FR 17437). The proposed action is for the Tribe to lease land and water on the Moapa River Indian Reservation (Reservation) to Calpine for the construction, operation and maintenance of a nominal baseload 760-megawatt, natural gas-fired, combined cycle power plant. In addition, proposed elements associated with the power plant would require permits and easements on Reservation lands and rights-of-way actions or temporary use permits on adjacent, BLM lands. The proposed term for the lease and rights-of-way is 25 years, with the possibility of renewal for an additional 20 years. The purpose of the proposed action is to provide viable economic development for the Tribe and to provide an alternative power supply to meet the growing demand for power in southern Nevada and the southwestern United States.

We are issuing this SDEIS to address and invite public comments on minor changes made to the proposed action since the DEIS was issued. These changes involve structural and routing modifications in the power distribution system for the proposed power plant. The SDEIS actually contains all of the information that we anticipate including in the Final Environmental Impact Statement, in order to provide a full context in which to view the changes. However, we are seeking public comments on the new information only. We will not consider further comments on matters already addressed in the DEIS, or on the public comments on the DEIS included in the SDEIS. We will address any comments we receive on the new information in the SDEIS in the Final Environmental Impact Statement. Details on the project location, proposed action, alternatives and areas of environmental concern, and on the new information addressed in the SDEIS, are provided below (see SUPPLEMENTARY INFORMATION).

DATES: Written comments on the SDEIS must arrive by January 14, 2002.

ADDRESSES: You may mail or hand carry written comments to Amy L. Heuslein or Ben Burshia. Written comments for Ms. Heuslein may be mailed to Regional Environmental Protection Officer, Western Regional Office, Bureau of Indian Affairs, Environmental Quality Services, PO Box 10, Phoenix, Arizona 85001, or hand delivered to 400 N. 5th St., 14th Floor, Phoenix, Arizona 85004. Written comments for Mr. Burshia may be mailed to Field Representative, Bureau of Indian Affairs, Southern Paiute Field Station, PO Box 720, St. George, Utah 84771, or hand delivered to 180 N. 200 E., Suite 111, St. George, Utah.

To obtain a hard copy or compact disk of the SDEIS, contact any one of the following: (1) Amy L. Heuslein, Regional Environmental Protection Officer, Western Regional Office, Bureau of Indian Affairs, Environmental Quality Services, PO Box 10, Phoenix, Arizona 85001, telephone 602-379-6750, telefax 602-379-3833, or E-mail AmyHeuslein@bia.gov; (2) Ben Burshia, Field Representative, Bureau of Indian Affairs, Southern Paiute Field Station, PO Box 720, St. George, Utah 84771, telephone 435-674-9720, telefax 435-674-9714, or E-mail BenBurshia@bia.gov; (3) Jacqueline Gratton, Realty Specialist, Bureau of Land Management, 4765 Vegas Drive, Las Vegas, Nevada 89108, telephone 702-647-5000, telefax 702-647-5023, or E-mail Jacqueline—Gratton @nv.blm.gov; or (4) the Moapa Band of Paiutes, Tribal Hall, Number 1 Lincoln Street, Moapa River Indian Reservation, Moapa, Nevada, 89025, telephone 702-865-2787, extension 202, or telefax 702-865-2875.

A hard copy of the SDEIS will be available for review at the Clark County Library—Urban Branch, 1401 East Flamingo Road, Las Vegas, Nevada, telephone 702-733-7810. Electronic copies of the SDEIS will be available on the BIA Internet web site at http://www.phxao.az.bia.gov/branches/environment/EIS/EIS.htm, and on the BLM web site at http://www.nv.blm.gov.

FOR FURTHER INFORMATION CONTACT: Amy L. Heuslein, 602-379-6750, or Ben Burshia, 435-674-9720.

SUPPLEMENTARY INFORMATION: The SDEIS incorporates revisions to the DEIS made in response to comments submitted during the 60-day public comment period, plus revisions made in response to changing conditions and new information that affected the design of both action alternatives. These revisions address modifications to the proposed project made after the DEIS was issued. Details on these modifications are provided later in this section.

The project proposed in the SDEIS would use up to 222 acres of Reservation and federal lands under the jurisdiction of the BIA, BLM and the Tribe. It would be located in Clark County, Nevada, approximately 45 miles northeast of the City of Las Vegas, 15 miles southwest of the City of Glendale, and approximately 3 miles northwest of the Interstate 15 and State Route 169 interchange (location of Moapa Tribal Enterprises). The proposed power plant would be located on approximately 65 acres of Reservation land within Sections 14 and 15 of Township 16 South, Range 64 East (reference: Arrow Canyon Southeast U.S. Geological Survey Map 7.5-minute series).

The proposed transmission lines would be located on Reservation and federal lands within Sections 14, 15, 22, 27, 28, 32 and 33 of Township 16 South, Range 64 East; and Section 9 of Township 17 South, Range 64 East (reference: Arrow Canyon Southeast and Dry Lake U.S. Geological Survey Maps 7.5-minute series). The access road for the proposed well field and power plant would be located on Reservation and federal lands within Sections 15, 21, 22, 28 and 33 of Township 16 South, Range 64 East; sections 10 and 15 of Township 17 South, Range 64 East (reference: Arrow Canyon Southeast and Dry Lake U.S. Geological Survey Maps 7.5-minute series).

The proposed nominal 760-megawatt, natural gas-fired, combined cycle power plant project would employ three gas turbines, three heat recovery steam generators and one steam turbine. The stacks would be approximately 145 to 199 feet high and approximately 18 feet in diameter. Up to 7000 acre feet per year of Tribal groundwater would be used for operations and for power plant cooling. Both storm water and process wastewater would be confined to the site. The plant would be fueled by natural gas from the existing Kern River (Williams) natural gas pipeline that is located within an existing right-of-way (administered by the BLM) on the Reservation, approximately 4000 feet from the proposed plant location. The project would include construction of a gas supply lateral pipeline on Reservation land and a power grid interconnection at the Nevada Power Company-owned Crystal Substation, located approximately four miles south-southwest of the power plant.

Power would transmit along a single or double-circuit 500-kV transmission line supported by steel lattice towers, traversing both Reservation land and federal land, within an existing utility corridor. Although only one 500-kV circuit is necessary for the proposed energy center, a second circuit is included as a possibility to allow a generator north of the proposed energy center to interconnect at the Crystal Substation without having to cross the proposed 500-kV circuit. If a second circuit is built, Calpine would employ both circuits in order to increase transmission system reliability until a user for the second circuit has been determined. If a user is determined, Calpine would transfer the rights of a circuit to that user, and the user would be responsible for obtaining separate permitting for its project.

The proposed project includes an access road to connect the site to Interstate Highway 15. A portion of this access road would require new construction. The remainder would make use of an existing frontage road and an existing dirt road, which is proposed to be improved.

The modifications made to the proposed action after the DEIS was issued, and which are addressed in this SDEIS, involve the transmission line for the proposed project. In the DEIS, the proposed line consists of a power grid interconnection at the Nevada Power Company-owned Harry Allen Substation, with two single-circuit, 230-kV transmission lines supported on mono-poles. In this SDEIS, the line consists of an interconnection to the Nevada Power Company's Crystal Substation, with a single or double-circuit 500-kV transmission line supported on steel lattice towers. These modifications were made in order to be consistent with the most recent regional transmission plan identified in the Nevada Power 2001 Resource Plan filing, which was published after the release of the DEIS.

To compare: (1) The power grid connection to the Crystal Substation is seven miles shorter than the connection to the Harry Allen Substation; (2) the width of the right-of-way for the single or double-circuit 500-kV transmission line is150 feet, while the width for the two single-circuit 230-kV transmission lines is 260 feet; (3) the height of the steel lattice towers is between 180 to190 feet, while the width for the 230-kV mono-poles is between 80 and 100 feet; (4) the number of steel lattice towers that would be required is approximately 27, while the number of mono-poles would be approximately 120; and (5) the single or double-circuit 500-kV line would disturb about 40 acres of land, which is approximately 83 acres less than what the two single-circuit 230-kV lines would disturb.

The SDEIS discusses potential impacts of proposed power plant development and operation on environmental and cultural resources in the study area. It describes alternatives that were considered but eliminated from further consideration, and analyzes the proposed action, a southern site alternative, and the no action alternative. Issues addressed in the SDEIS include geology and soils, surface and groundwater resources, biological resources, visual resources, air quality, land use, noise, public services/utilities, hazardous materials, paleontological and cultural resources, socio-economic conditions, environmental justice, Indian trust assets, and cumulative impacts. In addition, the SDEIS describes project modifications in comparison to the DEIS, discusses the reasons for these modifications, explores, but eliminates from further consideration, alternatives for the modifications, and analyzes environmental impacts with respect to the modifications.

Public Participation

The SDEIS was prepared subsequent to the issuance of a DEIS. Public scoping meetings for the DEIS were held August 10 and September 19, 2000, at the Reservation, and August 11 and September 20, 2000, at the North Las Vegas Airport in the City of North Las Vegas, Nevada. The DEIS was made available for public review and comment from March 30, 2001, to May 29, 2001. A Notice of Availability of the DEIS was published in the Federal Register on March 30, 2001 (66 FR 17437). Public notices were also published in the Las Vegas Review-Journal, the Las Vegas Sun, and the St. George Spectrum on April 6-8, 2001, and April 13-15, 2001. In addition, copies of the DEIS were mailed to a list of interested parties, including all attendees of the public scoping meetings and anyone who requested a copy, and the DEIS was available from the BIA in hard copy, on CD, and on the Internet. Public hearings on the DEIS were held on April 18, 2001, at the Reservation and April 19, 2001, at the Guy Elementary School in the City of North Las Vegas, Nevada.

Public Comment Solicitation

As an alternative to submitting written comments regarding the content of the SDEIS to the locations identified in the ADDRESSES section, interested persons may instead comment via the Internet to AmyHeuslein@bia.gov or to BenBurshia@bia.gov. Please submit Internet comments as an ASCII file, avoiding the use of special characters and any form of encryption. If you do not receive confirmation from the system that your Internet message was received, contact Amy L. Heuslein at (602) 379-6750, or Ben Burshia at (435) 674-9720, respectively.

Comments, including names and home addresses of respondents, will be available for public review at the mailing addresses shown in the ADDRESSES section, during regular business hours, 8 a.m. to 4:30 p.m., Monday through Friday, except holidays. Individuals may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority: This notice is published in accordance with section 1503.1 of the Council on Environmental Quality Regulations (40 CFR parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.

Dated: November 19, 2001.
Neal A. McCaleb,
Assistant Secretary—Indian Affairs.

[FR Doc. 01-29707 Filed 11-29-01; 8:45 am]

BILLING CODE 4310-02-P